DEPARTMENT OF COMMERCE

National Oceanic and Atmospheric Administration

[RTID 0648-XB826]

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a meeting of its Law Enforcement Technical Committee (LETC).

DATES: The meeting will convene on Wednesday, March 30, 2022, from at 10 a.m. to 12 p.m., EDT in CLOSED SESSION.

ADDRESSES: The meeting will be held virtually. Please visit the Gulf Council website at www.gulfcouncil.org for meeting materials and webinar registration information.

Council address: Gulf of Mexico Fishery Management Council, 4107 W Spruce Street, Suite 200, Tampa, FL 33607; telephone: (813) 348-1630.

FOR FURTHER INFORMATION CONTACT: Dr. Ava Lasseter, Anthropologist, Gulf of Mexico Fishery Management Council; ava.lasseter@gulfcouncil.org, telephone: (813) 348-1630.

SUPPLEMENTARY INFORMATION:

Wednesday, March 30, 2022; Beginning at 10 a.m. Until 12 p.m., EDT

Meeting will be in a CLOSED SESSION with introductions and review of nominations for the 2021 Officer/Team of the Year Award, followed by a discussion of the Council process for federal fishing violation checks. There will be no report out to the public on these items until the Gulf of Mexico Fishery Management Council discusses these recommendations at a future Council meeting. After that time, any decisions on the 2021 Officer/Team of the Year Award and proposed changes to the Statement of Organization Practices and Procedures (SOPPs) addressing the process for conducting federal fishing violations will be discussed in open Council session.

Meeting Adjourns.

The Agenda is subject to change, and the latest version along with other meeting materials will be posted on www.gulfcouncil.org.

The Law Enforcement Technical Committee consists of principal law enforcement officers in each of the Gulf States, as well as the NOAA Office of Law Enforcement, U.S. Fish and Wildlife Service and the NOAA Office of General Counsel for Law Enforcement.

Although other non-emergency issues not on the agenda may come before this group for discussion, in accordance with the Magnuson-Stevens Fishery Conservation and Management Act, those issues may not be the subject of formal action during this meeting. Actions will be restricted to those issues specifically identified in the agenda and any issues arising after publication of this notice that require emergency action under Section 305(c) of the Magnuson-Stevens Fishery Conservation and Management Act, provided the public has been notified of the Council's intent to take-action to address the emergency.

Authority: 16 U.S.C. 1801 et seq.

Dated: March 8, 2022.
Tracey L. Thompson,
Acting Deputy Director, Office of Sustainable Fisheries, National Marine Fisheries Service.

[FR Doc. 2022-05265 Filed 3-11-22; 8:45 am]

BILLING CODE 3510-22-P